DEPARTMENT OF COMMERCE

Foreign-Trade Zones Board

[B-80-2014]

Foreign-Trade Zone (FTZ) 127—West Columbia, South Carolina; Authorization of Production Activity; Komatsu America Corporation (Material Handling, Construction and Forestry Machinery); Newberry, South Carolina

On October 28, 2014, Komatsu America Corporation submitted a notification of proposed production activity to the Foreign-Trade Zones (FTZ) Board for its facility within FTZ 127—Site 3, located in Newberry, South Carolina.

The notification was processed in accordance with the regulations of the FTZ Board (15 CFR part 400), including notice in the Federal Register inviting public comment (79 FR 67414-67415, 11-13-2014). The FTZ Board has determined that no further review of the activity is warranted at this time. The production activity described in the notification is authorized, subject to the FTZ Act and the Board's regulations, including Section 400.14.

Dated: February 25, 2015.
Andrew McGilvray,
Executive Secretary.

[FR Doc. 2015-04494 Filed 3-3-15; 8:45 am]

BILLING CODE 3510-DS-P